ENVIRONMENTAL PROTECTION AGENCY

[FRL-9925-65-OAR]

Notice of Availability of Draft Scientific Assessment for Public Comment

AGENCY: Environmental Protection Agency (EPA).

ACTION: Notice of availability of draft scientific assessment for public comment.

SUMMARY: The Environmental Protection Agency (EPA) is publishing this document on behalf of the United States Global Change Research Program (USGCRP) to announce the availability of the Draft Impacts of Climate Change on Human Health in the United States: A Scientific Assessment for a sixty-day public review. Comments will be carefully reviewed by the relevant chapter author teams. Following revision and further review, a revised draft will undergo final federal interagency clearance.

DATES: Comments on this draft scientific assessment must be received by 5:00 p.m. Eastern time on June 8, 2015.

ADDRESSES: The Draft USGCRP Climate and Health Assessment is available at http://www.globalchange.gov/health-assessment where comments from the public will be accepted electronically. Comments may be submitted only online at this address; instructions for submitting are on this Web site.

All comments received through this process will be considered by the relevant chapter authors without knowledge of the commenters' identities. When the final assessment is issued, the comments and the commenters' names, along with the authors' responses, will become part of the public record and made available on http://www.globalchange.gov/health-assessment. Information submitted by a commenter as part of the registration process (such as an email address) will NOT be disclosed publicly.

The final USGCRP Climate and Health Assessment will be available at http://www.globalchange.gov/health-assessment.

FOR FURTHER INFORMATION CONTACT: Allison Crimmins, Coordinator for the USGCRP Climate and Health Assessment, EPA, 1200 Pennsylvania Ave. NW. (6207-A), Washington, DC 20460 (telephone number: 202-343-9170 or email address: healthreport@usgcrp.gov) during normal business hours of 9 a.m. to 5 p.m. Eastern time, Monday through Friday, or visit http://www.globalchange.gov/health-assessment.

SUPPLEMENTARY INFORMATION: This document entitled Draft Impacts of Climate Change on Human Health in the United States: A Scientific Assessment has been developed under the auspices of The Interagency Group on Climate Change and Human Health (CCHHG), a working group of the U.S. Global Change Research Program (USGCRP), as part of the ongoing efforts of USGCRP's National Climate Assessment (NCA) and as called for under the President's Climate Action Plan. The draft assessment was written by federal employees, contractors, or affiliates who were selected from author nominations based on their demonstrated subject matter expertise, relevant publications, and knowledge of specific topics designated in the draft outline. This draft USGCRP Climate and Health Assessment responds to the 1990 Congressional mandate to periodically produce National Climate Assessments and to assist the nation in understanding, assessing, predicting, and responding to human-induced and natural processes of global change.

The purpose of this draft assessment is to provide a comprehensive, evidence-based, and, where possible, quantitative estimation of observed and projected climate change related health impacts in the United States. It is intended to inform public health officials, disaster response planners, multi-sector policy and decision makers, and other stakeholders about the risks that climate change presents to human health.

The focus of this draft assessment is the health impacts of climate change in the United States. The assessment does not include detailed discussions of climate mitigation, adaptation, or economic valuation, nor does it make policy recommendations. Similarly, while this assessment does not focus on health research needs or gaps, brief insights on research needs gained while conducting this assessment will be included at the end of each chapter.

The USGCRP welcomes all comments on the content of its draft assessment at http://www.globalchange.gov/health-assessment.

Dated: March 9, 2015.
Sarah Dunham,
Director, Office of Atmospheric Programs.

[FR Doc. 2015-07629 Filed 4-6-15; 8:45 am]

BILLING CODE CODE 6560-50-P